DEPARTMENT OF THE INTERIOR

Minerals Management Service

Environmental Documents Prepared for Proposed Oil and Gas Operations on the Gulf of Mexico Outer Continental Shelf (OCS)

AGENCY: Minerals Management Service, Interior.

ACTION: Notice of the availability of environmental documents. Prepared for OCS mineral proposals on the Gulf of Mexico OCS.

SUMMARY: Minerals Management Service (MMS), in accordance with Federal regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice dated August 13, 2002.

Activity/Operator | Location | Date
Kerr McGee Oil & Gas Corporation, Development Operations Coordination Plan and Lease-Term Pipeline, PEA No. N-7625 and Segment No. P-14109 | Garden Banks Area, Blocks 667, 668 and 669, Leases OCS-G 17406, 17407 and 17408, respectively, located 117.5 miles from the nearest Texas shoreline | 04/02/03
BP Exploration & Production, Inc., Development Operations Coordination Plan, SEA No. N-7646 | Green Canyon Area, Blocks 742, 743, 744, 787 and 788, Leases OCS-G 15606, 15607, 15608, Unleased and Unleased, respectively, located 122 miles from the nearest Louisiana shoreline | 04/25/03
Fugro Geoservices, Inc. for BP America, Inc., Geological and Geophysical Exploration Plan, SEA No. L03-17 | Located in the Central Gulf of Mexico southeast of Patterson, Louisiana | 05/02/03
Anadarko Petroleum Corporation, Initial Exploration Plan, SEA No. N-7686 | DeSoto Canyon Area, Block 621, Lease OCS-G 23529, located 95.5 miles from the nearest Louisiana shoreline | 05/05/03
Shell Offshore, Inc., Initial Exploration Plan, SEA No. N-7698 | Lloyd Ridge Area, Block 399, Lease OCS-G 23480, located 128 miles from the nearest Louisiana shoreline | 05/07/03
Anadarko Petroleum Corporation, Initial Exploration Plan, SEA No. N-7713 | Lloyd Ridge Area, Blocks 265 and 309, Leases OCS-G 03472 and 03473, respectively, located 120 miles from the nearest Louisiana shoreline | 05/07/03
Amerada Hess Corporation, Initial Exploration Plan, SEA No. N-7672 | DeSoto Canyon Area, Block 620, Lease OCS-G 23528, located 93 miles from the nearest Louisiana shoreline | 05/21/03
W & T Inc., Right-of-Way Pipeline Application, SEA No. P-14037 | Offshore, Garden Banks Area, Block 139, Lease OCS-G 17295 to High Island Area, Block A389, Lease OCS-G 02759, located 123 miles from the nearest Louisiana shoreline | 05/30/03
Endymion Oil Pipeline Company, LLC, Right-of-Way Pipeline Application, SEA No. P-13534 | South Pass Area, Block 89, to traverse through Federal waters in South Pass Block 88, West Delta Blocks 145, 128, 129, 126, 125, 112, 113, 104, 103, 91, 92, 93, 72, 71, 66, 67, 39 and 38, and Grand Isle Blocks 20, 19 and 18, and continue through Louisiana State waters to Louisiana Offshore Oil Port near Clovelly, Louisiana, length through Federal waters is 46 miles and total length in offshore waters is 54 miles | 05/29/03
Anadarko Petroleum Corporation, Initial Exploration Plan, SEA No. N-7751 | Lloyd Ridge Area, Blocks 47, 91 and 135, located 111 miles from the nearest Louisiana shoreline | 06/17/03
ATP Oil & Gas Corporation, Structure Removal Activity, SEA ES/SR Nos. 03-010 and 03-011 | Vermilion Area (South Addition), Block 389, Lease OCS-G 14430, and Block 410, Lease OCS-G 11903, located 109-110 miles south of Cameron, Louisiana, and 129-131 miles south-southeast of Cameron Parish, Louisiana | 02/04/03
WesternGeco for Exxon Mobil Production Company, Geological & Geophysical Exploration, SEA No. L03-12 | Located in the central Gulf of Mexico southeast of Fourchon, Louisiana | 03/31/03
WesternGeco for Multi-Client, Geological & Geophysical Exploration, SEA No. L03-13 | Located in the central Gulf of Mexico southeast of Fourchon, Louisiana, and New Orleans, Louisiana | 04/15/03
Energy Resource Technology, Inc., Structure Removal Activity, SEA ES/SR No. 03-067 | South Timbalier Area, Block 213, Lease OCS-G 18055, located 50 miles from the nearest Louisiana shoreline | 04/07/03
Energy Resource Technology, Inc., Structure Removal Activity, SEA ES/SR No. 03-068 | West Cameron Area, Block 277, Lease OCS-G 04761, located 60 miles from the nearest Louisiana shoreline | 04/07/03
Petrobras America, Inc., Structure Removal Activity, SEA ES/SR No. 03-069 | Ship Shoal Area, Block 301, Lease OCS-G 10794, located 57 miles from the nearest Louisiana shoreline | 05/06/03
Anadarko E & P Company, LP, Structure Removal Activity, SEA ES/SR No. 03-070 | Eugene Island Area, Block 296, Lease OCS-G 02105, located 61 miles from the nearest Louisiana shoreline | 05/06/03
Ocean Energy, Inc., Structure Removal Activity, SEA ES/SR No. 03-071 | Vermillion Area, Block 68, Lease OCS-G 08662, located 15 miles from the nearest Louisiana shoreline | 05/06/03
Ocean Energy, Inc., Structure Removal Activity, SEA ES/SR No. 03-072 | East Cameron Area, Block 152, Lease OCS-G 17849. located 44 miles from the nearest Louisiana shoreline | 05/06/03
Ocean Energy, Inc., Structure Removal Activity, SEA ES/SR No. 03-073 | Galveston Area, Block 283, Lease OCS-G 09039, located 15 miles from the nearest Texas shoreline | 05/06/03
Ocean Energy, Inc., Structure Removal Activity, SEA ES/SR No. 03-074 | Galveston Area, Block 393, Lease OCS-G 15761, located 22 miles from the nearest Texas shoreline | 05/06/03
Ocean Energy, Inc., Structure Removal Activity, SEA ES/SR No. 03-07, 03-076 and 03-077 | Brazos Area, Block 399, Lease OCS-G 07218, located 14 miles from the nearest Texas shoreline | 05/06/03
Ocean Energy, Inc., Structure Removal Activity, SEA ES/SR No. 03-078 | Brazos Area, Block 432, Lease OCS-G 09018, located 20 miles from the nearest Texas shoreline | 05/06/03
Amerada Hess Corporation, Structure Removal Activity, SEA ES/SR No. 03-080 | West Cameron Area, Block 505, Lease OCS-G 16200, located 97 miles from the nearest Texas shoreline | 05/03/03
Amerada Hess Corporation, Structure Removal Activity, SEA ES/SR No. 03-081 and 03-082 | West Cameron Area, Block 556, Lease OCS-G 05346, located 97 miles from the nearest Texas shoreline | 05/06/03
Amerada Hess Corporation, Structure Removal Activity, SEA ES/SR No. 03-083 | Galveston Area, Block 210, Lease OCS-G 07236, located 97 miles from the nearest Texas shoreline | 05/06/03
Hunt Oil Company, Structure Removal Activity, SEA ES/SR No. 03-087, 03-088, 03-089, 03-090 and 03-091 | South Pass Area, Block 37, Leases OCS-G 01335 and OCS 00697, located 6-8 miles east-southeast of Plaquemines Parish, Louisiana shoreline | 04/15/03
ATP Oil & Gas Corporation, Structure Removal Activity, SEA No. ES/SR 03-092 | South Timbalier Area, Block 30, Lease OCS-G 13928, located 7 miles south of LaFourche Parish, Louisiana shoreline | 04/14/03
J. M. Huber Corporation, Structure Removal Activity, SEA ES/SR No. 03-093 and 03-094 | South Timbalier Area, Block 21, Lease OCS-G 00263, located 5 miles from the nearest Louisiana shoreline | 04/11/03
BP America Production Company, Structure Removal Activity, SEA ES/SR No. 03-095 | High Island Area, Block A1, Lease OCS-G 15780, located 30 miles from the nearest Louisiana shoreline | 04/14/03
Chevron U.S.A., Inc., Structure Removal Activity, SEA ES/SR No. 03-096 and 03-097 | Eugene Island Area, Block 23, Lease OCS-G 00980, located 45 miles from the nearest Louisiana shoreline | 05/16/03
Chevron U.S.A., Inc., Structure Removal Activity, SEA ES/SR No. 03-098 | Ship Shoal Area, Block 108, Lease OCS-00814, located 20 miles from the nearest Louisiana shoreline | 04/22/03
Burlington Resources offshore, Inc., Structure Removal Activity, SEA ES/SR No. 03-099 | Eugene Island Area, Block 159, Lease OCS-G 04449, located 35 miles from the nearest Louisiana shoreline | 04/16/03
Murphy Exploration & Production Company, Structure Removal Activity, SEA ES/SR No. 03-100, 03-101, 03-102, 03-103, 03-104, 03-105, 03-106, 03-107, 03-108, and 03-109 | South Pelto Area, Blocks 12 and 19, Leases OCS-G 00072 and 00073; Ship Shoal Area, Block 101, Lease OCS-G 09612; and Vermilion Area, Block 130, Lease OCS-G 16296; all located 8 to 32 miles south and southwest from the nearest Louisiana shoreline | 04/23/03
J. M. Huber Corporation, Structure Removal Activity, SEA ES/SR No. 03-110 | West Cameron Area, Block 238, Lease No. OCS-02834, located 40 miles from the nearest Louisiana shoreline | 04/23/03
TotalFinaElf E&P USA, Inc., Structure Removal Activity, SEA ES/SR No. 03-111 and 03-112 | West Cameron Area, Block 167, Lease OCS-G 09400, located 25 miles from the nearest Louisiana shoreline | 04/29/03
McMoRan Oil & Gas, Structure Removal Activity, SEA ES/SR No. 03-113 | Eugene Island Area, Block 215, Lease OCS-G 00578, located 43 miles from the nearest Louisiana shoreline | 05/06/03
W & T Offshore, Inc., Structure Removal Activity, SEA ES/SR No. 03-114 | East Cameron Area, Block 303, Lease OCS-G 12850, located 88 miles from the nearest Louisiana shoreline | 05/19/03
Spinnaker Exploration Company, LLC, Structure Removal Activity, SEA ES/SR No. 03-115—03-117 | East Cameron Area, Blocks 138 and 139, Leases OCS-G 13863 and 21576, located 45 miles from the nearest Louisiana shoreline | 05/14/03
Spinnaker Exploration Company, LLC, Structure Removal Activity, SEA ES/SR No. 03-118 | High Island Area, Block 235, Lease OCS-G 18941, located 30 miles from the nearest Louisiana shoreline | 05/16/03
Chinese Offshore Oil Geophysical Corporation for GX Technology Corporation, Geological and Geo-Physical Exploration Plan, SEA No. T03-08 | Located in the Central and Western Gulf of Mexico from south of Fourchon, Louisiana, extending offshore to northeast of Port Isabel, Texas | 05/16/03
El Paso Production Company, Structure Removal Activity, SEA ES/SR No. 97-095A | West Cameron, (South Addition) Area, Block 498, Lease OCS-G 03520. located 92 miles from the nearest Louisiana shoreline | 05/20/03
ChevronTexaco, Structure Removal Activity, SEA ES/SR Nos. 00-1342A, 03-119, 95-049A, 07-090A, 03-120 and 03-121 | High Island Area (South Addition), Block A548, Lease OCS-G 02706; West Cameron Area, Blocks 17 and 48, Lease OCS-G 01351, located 99 miles southeast of Galveston, Texas, and 3.5 miles south of Cameron, Louisiana, respectively | 05/21/03
The William G. Helis Company, LLC, Structure Removal Activity, SEA ES/SR No. 03-122 | South Timbalier (South Addition) Area, Block 212, Lease OCS-G 14538, located 43 miles from the nearest Louisiana shoreline | 05/21/03
Forest Oil Corporation, Structure Removal Activity, SEA ES/SR No. 03-123 | Eugene Island Area, Block 273, Lease OCS-G 00987, located 60 miles from the nearest Louisiana shoreline | 05/21/03
Chevron U.S.A., Inc., Structure Removal Activity, SEA ES/SR No. 03-124 | Eugene Island Area, Block 64, Lease OCS-G 02098, located 20 miles from the nearest Louisiana shoreline | 06/02/03
Callon Petroleum Operating Company, Structure Removal Activity, SEA ES/SR No. 03-125 | Main Pass Area, Block 161, Lease OCS-G 05703, 45 miles from the nearest Louisiana shoreline | 05/29/03
El Paso Production Oil & Gas Company, Structure Removal Activity, SEA ES/SR No. 03-126 | East Cameron Area, Block 82, Lease OCS-G 08640, located 28 miles from the nearest Louisiana shoreline | 06/03/03
WesternGeco for Multi-Client, Geological & Geophysical Exploration, SEA No. L03-32 | Located in the central Gulf of Mexico south of Cocodrie, Louisiana | 06/03/03
WesternGeco for Multi-Client, Geological & Geophysical Exploration, SEA No. L03-26 and L03-27 | Located in the central Gulf of Mexico south of Cocodrie and Fourchon, Louisiana | 06/05/03
WesternGeco for Multi-Client, Geological & Geophysical Exploration, SEA No. L03-28 and L03-29 | Located in the central Gulf of Mexico south of Louisa and Leeville, Louisiana | 06/05/03
Ocean Energy, Inc., Structure Removal Activity, SEA ES/SR No. 03-127 | Main Pass Area, Block 63, Lease OCS-G 18086, located 16 miles from the nearest Louisiana shoreline | 06/20/03
Maritech Resources, Inc., Structure Removal Activity, SEA ES/SR No. 03-128, 03-129 and 03-130 | Eugene Island Area, Block 215, Lease OCS-G 00580, 37 miles from the nearest Louisiana shoreline | 06/18/03
Hunt Oil Company, Structure Removal Activity, SEA ES/SR No. 03-131 | Eugene Island Area, Block 76, Lease OCS-G 04823, located 17 miles from the nearest Louisiana shoreline | 06/11/03
Union Oil Company of California, Structure Removal Activity, SEA ES/SR No. 03-132 | South March Island Area, Block 11, Lease OCS-G 01182, located 35 miles southwest from the nearest Louisiana shoreline | 06/09/03
Torch Energy Services, Inc., Structure Removal Activity, SEA ES/SR No. 03-133 | Main Pass Area, Block 100, Lease OCS-G 04910, located 13 miles east-southeast of the nearest Louisiana shoreline | 06/16/03
EOG Resources, Structure Removal Activity, SEA ES/SR No. 03-137 | East Cameron Area, Block 118, Lease OCS-G 14362, located 36 miles south-southwest from the nearest Louisiana shoreline | 06/16/03
Nexen Petroleum U.S.A., Inc., Structure Removal Activity, SEA ES/SR No. 03-134 | Eugene Island Area, Block 295, Lease OCS-G 02104, located 70 miles from the nearest Louisiana shoreline | 06/18/03
Walter Oil & Gas Corporation, Structure Removal Activity, SEA ES/SR No. 03-135 and 03-136 | Padre Island Area, Blocks 976 and 996, OCS-G 05954 and 08962, located 25 miles from the nearest Louisiana shoreline | 06/23/03

Persons interested in reviewing environmental documents for the proposals listed above or obtaining information about SEAs and FONSIs prepared for activities on the Gulf of Mexico OCS are encouraged to contact MMS at the address or telephone listed in the FOR FURTHER INFORMATION section.

Dated: June 27, 2003.
Chris C. Oynes,
Regional Director, Gulf of Mexico OCS Region.

[FR Doc. 03-18531 Filed 7-24-03; 8:45 am]

BILLING CODE 4310-MR-P